DEPARTMENT OF COMMERCE

National Oceanic and Atmospheric Administration

RIN 0648-XA558

Nominations to the Marine Fisheries Advisory Committee

AGENCY: Commerce, National Oceanic and Atmospheric Administration (NOAA), National Marine Fisheries Service (NMFS).

ACTION: Notice; request for nominations.

SUMMARY: Nominations are being sought for appointment by the Secretary of Commerce to serve on the Marine Fisheries Advisory Committee (MAFAC or Committee) beginning in January 2012. MAFAC is the only Federal advisory committee with the responsibility to advise the Secretary of Commerce (Secretary) on all matters concerning living marine resources that are the responsibility of the Department of Commerce. The Committee makes recommendations to the Secretary to assist in the development and implementation of Departmental regulations, policies and programs critical to the mission and goals of the NMFS. Nominations are encouraged from all interested parties involved with or representing interests affected by NMFS actions in managing living marine resources. Nominees should possess demonstrable expertise in a field related to the management of living marine resources and be able to fulfill the time commitments required for two annual meetings. Individuals serve for a term of three years for no more than two consecutive terms if re-appointed. NMFS is seeking qualified nominees to fill upcoming vacancies being created by term limits.

DATES: Nominations must be postmarked or have an e-mail date stamp on or before August 26, 2011.

ADDRESSES: Nominations should be sent to Dr. Mark Holliday, Executive Director, MAFAC, Office of Policy, NMFS F-14451, 1315 East-West Highway, Silver Spring, MD 20910.

FOR FURTHER INFORMATION CONTACT: Mark Holliday, MAFAC Executive Director; (301) 479-8004; e-mail: Mark.Holliday@noaa.gov.

SUPPLEMENTARY INFORMATION: The establishment of MAFAC was approved by the Secretary on December 28, 1970, and subsequently chartered under the Federal Advisory Committee Act, 5 U.S.C. App. 2, on February 17, 1971. The Committee meets twice a year with supplementary subcommittee meetings as determined necessary by the Committee Chairperson. No less that 15 and no more than 21 individuals may serve on the Committee. Membership is comprised of highly qualified, diverse individuals representing commercial and recreational fisheries interests, environmental organizations, academic institutions, governmental, tribal and consumer groups, and other living marine resource interest groups from a balance of U.S. geographical regions, including Puerto Rico, the Western Pacific, and U.S. Virgin Islands.

A MAFAC member cannot be a Federal employee, a member of a Regional Fishery Management Council, a registered Federal lobbyist or a State employee. Selected candidates must pass security checks and submit financial disclosure forms. Membership is voluntary, and except for reimbursable travel and related expenses, service is without pay.

Each nomination submission should include the nominee's name, a cover letter describing the nominee's qualifications and interest in serving on the Committee, curriculum vitae or resume of the nominee, and no more than three supporting letters describing the nominee's qualifications and interest in serving on the Committee. Self-nominations are acceptable. The following contact information should accompany each nominee's submission: name, address, telephone number, fax number, and e-mail address (if available).

Nominations should be sent to (see ADDRESSES) and must be received by August 26, 2011. The full text of the Committee Charter and its current membership can be viewed at the NMFS' web page at http://www.nmfs.noaa.gov/mafac.htm.

Dated: July 6, 2011.
Eric C. Schwaab,
Assistant Administrator for Fisheries, National Marine Fisheries Service.

[FR Doc. 2011-17504 Filed 7-11-11; 8:45 am]

BILLING CODE 3510-22-P